FEDERAL COMMUNICATIONS COMMISSION

47 CFR Part 20

[GN Docket No. 13-111; FCC 21-82; FR ID 39501]

Promoting Technological Solutions To Combat Contraband Wireless Device Use in Correctional Facilities

AGENCY: Federal Communications Commission.

ACTION: Proposed rule.

SUMMARY: In this document, the Federal Communications Commission (Commission or FCC) takes further steps to facilitate the deployment and viability of technological solutions used to combat contraband wireless devices in correctional facilities. The Second Further Notice of Proposed Rulemaking (SFNPRM) seeks further comment on the relative effectiveness, viability, and cost of additional technological solutions to combat contraband phone use in correctional facilities previously identified in the record.

DATES: Interested parties may file comments on or before September 13, 2021, and reply comments on or before October 12, 2021.

ADDRESSES: You may submit comments, identified by GN Docket No. 13-111, by any of the following methods:

• Electronic Filers: Comments may be filed electronically using the internet by accessing the Commission's Electronic Comment Filing System (ECFS): http://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (Braille, large print, electronic files, audio format), send an email to fcc504@fcc.gov or call the Consumer & Governmental Affairs Bureau at 202-418-0530 (voice), 202-418-0432 (TTY).

FOR FURTHER INFORMATION CONTACT: Melissa Conway of the Wireless Telecommunications Bureau, Mobility Division, at (202) 418-2887 or Melissa.Conway@fcc.gov.

SUPPLEMENTARY INFORMATION: This is a summary of the Commission's Second Further Notice of Proposed Rulemaking in GN Docket No. 13-111, FCC 21-82 adopted July 12, 2021 and released July 13, 2020. The full text of this document, including all Appendices, is available for inspection and copying during normal business hours in the FCC Reference Center, 45 L Street NE, Washington, DC 20554, or available for viewing via the Commission's ECFS website by entering the docket number, GN Docket No. 13-111. Alternative formats are available for people with disabilities (Braille, large print, electronic files, audio format), by sending an email to FCC504@fcc.gov or calling the Consumer and Governmental Affairs Bureau at (202) 418-0530 (voice), (202) 418-0432 (TTY).

This proceeding shall continue to be treated as a “permit-but-disclose” proceeding in accordance with the Commission's ex parte rules (47 CFR 1.1200 through 1.1216). Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

1. In the SFNPRM, the Commission seeks comment on whether there have been technological, economic, policy, and/or legal developments sufficient to overcome the variety of challenges presented to the widespread deployment of these technologies and whether and how the Commission can further facilitate these technologies through regulatory next steps. In doing so, the Commission contemplates various approaches to combatting the use of contraband wireless devices in correctional facilities that would each have their own projected reporting, recordkeeping, and other compliance requirements. We cannot quantify the cost of compliance with any regulatory next steps and do not know whether small entities will have to hire professionals to comply with any rules that we ultimately adopt. Below we discuss the projected reporting, recordkeeping, and other compliance requirements associated with the various approaches in the SFNPRM to combat contraband wireless device use in correctional facilities.

2. The Commission contemplates as a potential solution the creation of “quiet zones” in and around correctional facilities where wireless communications are not authorized such that contraband wireless devices in correctional facilities would not be able to receive service from a wireless provider. Quiet zones would require wireless carriers and solution providers to have appropriate engineering capabilities to precisely define quiet zones around the borders of correctional facilities. To understand the cost implications for small and other entities, we seek comment on the potential costs that could be associated with the implementation of quiet zones, including the cost of hardware, software, network integration, engineering, and ongoing maintenance. The Commission also seeks comment on who should bear the cost of implementing quiet zones, and the potential alternatives to a Commission mandate that might encourage implementation.

3. The SFNPRM seeks comments on the options of geolocation-based denial, also known as geofencing, and a “network-based solution.” The geolocation-based denial would allow for mobile device software and/or hardware to be used to shut down contraband wireless devices that violate a perimeter surrounding a correctional facility. A geolocation-based solution would require adequate engineering to locate and disable wireless contraband. Relatedly, a “network-based solution” would require commercial mobile radio service (CMRS) licensees to independently identify and disable contraband wireless devices in correctional facilities using their own network elements. Therefore, the Commission seeks comment on whether there have been technological advancements in carriers' network engineering that might make it more feasible for entities to implement and comply with network-based geofencing. If network-based geofencing is selected as the solution for contraband wireless devices in correctional facilities, then the engineering required could have associated costs, including the testing and maintenance necessary to ensure accuracy and ongoing viability. The Commission's request for comment on additional costs that could be associated with the implementation of network-based geofencing, including software and network integration, should provide insight and allow us to evaluate costs for small and other entities that will be impacted by any future rules we adopt regarding these two potential solutions.

4. This SFNPRM also contemplates the option of using beacon technology to combat the issue of contraband wireless device use in correctional facilities. The Commission seeks comment on the potential advancements in beacon technology that would allow beacon software to be installed on mobile devices remotely (e.g., through a software update). If the Commission is found to have the authority to require entities to install the software on devices, then this approach could require related compliance requirements. Relatedly, the Commission seeks comment on how beacon technology could ensure that authorized users (e.g., correctional officers) are still able to use their devices. This requirement could impose recordkeeping and compliance requirements for entities such as wireless providers and mobile device manufacturers that must implement beacon technology via hardware and/or software changes to mobile devices for all users. We raise inquiries and seek information on the cost and implementation timing for beacon technology, specifically as compared to managed access systems (MAS) or advanced detection, and who should bear these costs. In addition, we request information on the various types of costs for entities associated with this type of technology, including hardware, software, network integration, engineering, ongoing maintenance, etc., which is germane to our analysis of any regulatory next steps and could impact the nature and type of recordkeeping, reporting, and compliance obligations that may result in this proceeding.

5. The Commission also seeks further comment on potential regulatory steps that might be necessary to ensure that MAS maintains effectiveness as wireless technology evolves from 2G to widespread 3G/4G and ultimately 5G deployments. We note that the commenters on the July 2020 Refresh Public Notification (85 FR 49999, August 17, 2020) largely agree that MAS Evolved will be even more effective than existing MAS systems. In this SFNPRM, we seek further comment on steps the Commission could take to facilitate MAS deployments. Depending on the comments, it is possible that the Commission could mandate roaming agreements between wireless carriers and solutions providers in the corrections context given the vital public safety concerns, which would impact small entities. It is also possible that the Commission could implement other approaches that could be developed by the wireless providers and/or the vendors to add features or services and help defray the cost of MAS deployments and operations. Lastly, the Commission could revise the previously streamlined leasing rules in the correctional facility context to facilitate further Contraband Interdiction System (CIS) deployments nationwide. Each of these potential rule changes could require additional recordkeeping and reporting from entities that seek to deploy MAS Evolved solutions.

Federal Communications Commission.
Katura Jackson,
Federal Register Liaison Officer.

[FR Doc. 2021-16463 Filed 8-12-21; 8:45 am]

BILLING CODE 6712-01-P